DEPARTMENT OF TRANSPORTATION

Federal Aviation Administration

14 CFR Part 39

[Docket No. FAA-2015-3148; Directorate Identifier 2014-NM-254-AD; Amendment 39-18928; AD 2017-12-13]

RIN 2120-AA64

Airworthiness Directives; Airbus Airplanes

AGENCY: Federal Aviation Administration (FAA), Department of Transportation (DOT).

ACTION: Final rule.

SUMMARY: We are adopting a new airworthiness directive (AD) for certain Airbus Model A320-212, -214, -232, and -233 airplanes. This AD was prompted by a report of a crack found during an inspection of the pocket radius of the fuselage frame. This AD requires repetitive low frequency eddy current inspections or repetitive high frequency eddy current inspections of this area, and repair if necessary. The repair terminates the repetitive inspections. We are issuing this AD to address the unsafe condition on these products.

DATES: This AD becomes effective July 25, 2017.

The Director of the Federal Register approved the incorporation by reference of a certain publication listed in this AD as of July 25, 2017.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-3148.

Examining the AD Docket

You may examine the AD docket on the Internet at http://www.regulations.gov by searching for and locating Docket No. FAA-2015-3148; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to Airbus Model A320-212, -214, -232, and -233 airplanes. The NPRM published in the Federal Register on August 27, 2015 (80 FR 51968) (“the NPRM”).

The European Aviation Safety Agency (EASA), which is the Technical Agent for the Member States of the European Union, has issued EASA Airworthiness Directive 2014-0278, dated December 19, 2014 (referred to after this as the Mandatory Continuing Airworthiness Information, or “the MCAI”), to correct an unsafe condition for certain Airbus Model A320-212, -214, -232, and -233 airplanes. The MCAI states:

An operator reported finding a crack during an inspection in accordance with the instructions of Airbus Alert Operators Transmission (AOT) A53N007-14. What was found, a 170 mm through-thickness crack in the pocket radius between frame 36 and 37 above stringer 6 on left hand (LH) side lap joint, was not the aim of the AOT inspection. Prior to this finding, the operator reported noise in the affected area during several weeks.

This condition, if not detected and corrected, could lead to in-flight decompression of the aeroplane, possibly resulting in injury to occupants.

To address this unsafe condition, Airbus published AOT A53N009-14 to provide inspection and repair instructions to detect and prevent crack propagation.

EASA decided to agree on a sampling inspection to determine whether additional aeroplanes need to be inspected.

For the reasons described above, this [EASA] AD requires, for the selected aeroplanes, repetitive Low Frequency Eddy Current (LFEC) or High Frequency Eddy Current (HFEC) inspections of the pocket radii [for cracks] located between fuselage frames 35 and 40, above stringer 6 on both LH and right hand (RH) sides and, depending on findings, accomplishment of repair instructions.

This [EASA] AD is considered an interim action and further [EASA] AD action may follow.

You may examine the MCAI in the AD docket on the Internet at http://www.regulations.gov by searching for and locating Docket No. FAA-2015-3148.

Comments

We gave the public the opportunity to participate in developing this AD. We have considered the comment received. The following presents the comment received on the NPRM and the FAA's response.

Request To Withdraw the Proposed Rule

Delta (DAL) requested that we withdraw the proposed rule. DAL commented that a review of the manufacturing records for the cracked skin panel noted rework in the discrepant area, which could have contributed to cracking. DAL also stated that the effectivity specified in Airbus AOT A53N009-14, dated December 17, 2014, was limited to airplanes fitted with reworked panels and manufactured with the same chemical milling process. DAL commented that, in addition, there were scratch-like indications near the cracked area which may have been due to the manufacturing process. DAL stated that further research is in work with nothing confirmed.

DAL stated since the issuance of Airbus AOT A53N009-14, dated December 17, 2014, all 7 applicable airplanes mentioned in the proposed rule have completed the initial inspections with no findings. DAL stated that over half the airplanes were inspected from the inside using the HFEC inspection, which is capable of detecting very small cracks. DAL also commented that the inspection results have been provided to Airbus for review. DAL also stated that Airbus conducted a study that showed an undetected crack would not result in an explosive decompression but rather a partial opening of the skin causing flapping with a slow loss of cabin pressure. DAL noted that further testing is in work to determine what final action, if any, is required.

DAL also stated that EASA is considering cancellation of AD 2014-0278, dated December 19, 2014, pending the outcome of the investigations.

DAL stated that the proposed rule is premature and should be cancelled based on the available data and recent inspection results.

We disagree with the commenter's request. The EASA, as the State of Design Authority for Airbus products, has determined an unsafe conditions exists after conducting a risk analysis. We agree with the EASA's risk assessment and their decision to mitigate the risk by mandating the actions required in this AD. EASA has not determined that cancellation of AD 2014-0278, dated December 19, 2014, is warranted. However, if new information becomes available to justify revising or removing this AD, we will consider further rulemaking. We have not changed this AD in this regard.

Conclusion

We reviewed the relevant data, considered the comment received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed Airbus AOT A53N009-14, Rev 00, dated December 17, 2014. The service information describes procedures for repetitive inspections of the pocket radii located between fuselage frames 35 and 40, above stringer 6 on both the left- and right-hand sides, and repair if necessary. This service information is reasonably available because the interested parties have access to it through their normal course of business or by the means identified in the ADDRESSES section.

Costs of Compliance

We estimate that this AD affects 1 airplane of U.S. registry.

We estimate the following costs to comply with this AD:

Estimated Costs
Action | Labor cost | Parts cost | Cost per product | Cost on U.S. operators
Inspection | 3 work-hours × $85 per hour = $255 per inspection cycle | $0 | $255 per inspection cycle | $255 per inspection cycle.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-12-13 Airbus: Amendment 39-18928; Docket No. FAA-2015-3148; Directorate Identifier 2014-NM-254-AD.

(a) Effective Date

This AD becomes effective July 25, 2017.

(b) Affected ADs

None.

(c) Applicability

This AD applies to the Airbus Model A320-212 airplane having manufacturer serial number (MSN) 1011; Airbus Model A320-214 airplanes having MSNs 1009, 1026 and 1030; the Airbus Model A320-232 airplane having MSN 0977; and Airbus Model A320-233 airplanes having MSNs 1007 and 1013; certificated in any category.

(d) Subject

Air Transport Association (ATA) of America Code 53, Fuselage.

(e) Reason

This AD was prompted by a report of a crack found during an inspection of the pocket radius of the fuselage frame. We are issuing this AD to detect and correct any cracking of the pocket radius, which could lead to in-flight decompression of the airplane and possible injury to the passengers.

(f) Compliance

Comply with this AD within the compliance times specified, unless already done.

(g) Repetitive Inspections

Within 750 flight cycles or 4 months, whichever occurs first after the effective date of this AD: Do a low frequency eddy current (LFEC) inspection or a high frequency eddy current (HFEC) inspection for cracking of the pocket radii located between fuselage frames 35 and 40, above stringer 6 on both the left- and right-hand sides, in accordance with the instructions of Airbus Alert Operators Transmission (AOT) A53N009-14, Rev 00, dated December 17, 2014. Repeat the inspection, thereafter, at intervals not to exceed the times specified in paragraphs (g)(1) and (g)(2) of this AD.

(1) For the LFEC inspection performed on the outside: Repeat the inspection at intervals not to exceed 1,000 flight cycles.

(2) For the HFEC inspection performed on the inside: Repeat the inspection at intervals not to exceed 2,000 flight cycles.

(h) Corrective Action

If, during any inspection required by paragraph (g) of this AD, any crack is found, before further flight, accomplish the repair in accordance with the instructions of Airbus AOT A53N009-14, Rev 00, dated December 17, 2014; except if the crack is beyond the structural repair manual limits as specified in Airbus AOT A53N009-14, Rev 00, dated December 17, 2014, before further flight, repair using a method approved by the Manager, International Branch, ANM-116, Transport Airplane Directorate, FAA; or the European Aviation Safety Agency (EASA); or Airbus's EASA Design Organization Approval (DOA).

(i) Terminating Action

Repair of an airplane as required by paragraph (h) of this AD terminates the repetitive inspections required by paragraph (g) of this AD for the repaired area only.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(k) Related Information

(1) Refer to Mandatory Continuing Airworthiness Information (MCAI) EASA Airworthiness Directive 2014-0278, dated December 19, 2014, for related information. This MCAI may be found in the AD docket on the Internet at http://www.regulations.gov by searching for and locating Docket No. FAA-2015-3148.

(2) For more information about this AD, contact Sanjay Ralhan, Aerospace Engineer, International Branch, ANM-116, Transport Airplane Directorate, FAA, 1601 Lind Avenue SW., Renton, WA 98057-3356; telephone 425-227-1405; fax 425-227-1149.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A53N009-14, Rev 00, dated December 17, 2014.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 6, 2017.
Michael Kaszycki,
Acting Manager, Transport Airplane Directorate, Aircraft Certification Service.

[FR Doc. 2017-12289 Filed 6-19-17; 8:45 am]

BILLING CODE 4910-13-P